DEPARTMENT OF COMMERCE

United States Patent and Trademark Office

Patent Examiner Employment Application

ACTION: Notice.

SUMMARY: The United States Patent and Trademark Office (USPTO), as part of its continuing effort to reduce paperwork and respondent burden, invites the general public and other Federal agencies to take this opportunity to comment on the continuing information collection, as required by the Paperwork Reduction Act of 1995, Public Law 104-13 (44 U.S.C. 3506(c)(2)(A)).

DATES: Written comments must be submitted on or before August 18, 2014.

ADDRESSES: You may submit comments by any of the following methods:

• Email: InformationCollection@uspto.gov. Include “0651-0042 comment” in the subject line of the message.

• Mail: Susan K. Fawcett, Records Officer, Office of the Chief Information Officer, United States Patent and Trademark Office, P.O. Box 1450, Alexandria, VA 22313-1450.

• Federal Rulemaking Portal: http://www.regulations.gov.

FOR FURTHER INFORMATION CONTACT: Requests for additional information should be directed to the attention of LaRita Jones, Chief of the Workforce Employment Division, Office of Human Resources, United States Patent and Trademark Office (USPTO), P.O. Box 1450, Alexandria, VA 22313-1450; by telephone at 571-272-6196; or by email to larita.jones@uspto.gov.

SUPPLEMENTARY INFORMATION:

I. Abstract

In the current employment environment, information technology professionals and engineering graduates are in great demand. The USPTO is in direct competition with private industry for the same caliber of candidates with the requisite knowledge and skills to perform patent examination work. The use of automated online systems allows the USPTO to remain competitive, meet hiring goals, and fulfill the agency's Congressional commitment to reduce the pendency rate for the examination of patent applications. The information supplied by an applicant seeking a patent examiner position with the USPTO assists the Human Resources Specialists and hiring managers in determining whether an applicant possesses the basic qualification requirements for the patent examiner position.

The Monster Hiring Management (MHM) system is an automated online system that allows the USPTO to rapidly review applications for employment of entry-level patent examiners. The Office of Human Resources (OHR) can use the system to rapidly review applications for employment and take the necessary administrative action to support the hiring process.

The online application creates an electronic real-time candidate inventory that allows the USPTO to review applications from potential applicants almost instantaneously. Given the immediate hiring need of the Patent Examining Corps, time consumed in the mail distribution system or paper review of applications delays the decision-making process by several weeks. The MHM system results in increased speed and accuracy in the employment process, in addition to streamlining labor and reducing costs.

The use of the MHM online application fully complies with 5 U.S.C. § 2301, which requires adequate public notice to assure open competition by guaranteeing that necessary employment information will be accessible and available to the public on inquiry. It is also fully compliant with Section 508 (29 U.S.C. § 794(d)), which requires agencies to provide disabled employees and members of the public access to information that is comparable to the access available to others.

II. Method of Collection

With the use of MHM, the application information is collected electronically from the applicant. The USAJobs.gov Web site provides the online job announcement that links the applicant to the application and the MHM system. The application is completed online and then transmitted to the USPTO via the Internet.

III. Data

OMB Number: 0651-0042.

Form Number(s): N/A.

Type of Review: Extension of a currently approved collection.

Affected Public: Individuals or households.

Estimated Number of Respondents: 16,103 responses per year.

Estimated Time per Response: The USPTO estimates that it will take the public approximately 30 minutes (0.5 hours) to complete the employment application, depending upon the applicant's situation.

Estimated Total Annual Respondent Burden Hours: 8,051.5 hours.

Item No. | Item | Estimated time for response (minutes) | Estimated annual responses | Estimated annual burden hours
1 | Patent Examiner Employee Application | 30 | 16,103 | 8,051.5
Total |  |  | 16,103 | 8,051.5

Estimated Total Annual Respondent Cost Burden: $359,822. Using the median hourly rate for scientists and engineers of $44.69 as derived from the Bureau of Labor Statistics, the USPTO estimates $359,822 per year in cost burden associated with respondents. This is a fully loaded hourly rate.

Estimated Total Annual (Non-hour) Respondent Cost Burden: $0. There are no filing fees or start-up, maintenance, record keeping, or postage costs associated with this information collection.

IV. Request for Comments

Comments submitted in response to this notice will be summarized and/or included in the request for OMB approval. All comments will become a matter of public record.

The USPTO is soliciting public comments to: (a) Evaluate whether the proposed collection of information is necessary for the proper performance of the functions of the agency, including whether the information will have practical utility; (b) Evaluate the accuracy of the agency's estimate of the burden of the proposed collection of information, including the validity of the methodology and assumptions used; (c) Enhance the quality, utility, and clarity of the information to be collected; and (d) Minimize the burden of the collection of information on those who are to respond, including through the use of appropriate automated, electronic, mechanical, or other technological collection techniques or other forms of information technology, e.g., permitting electronic submission of responses.

Dated: June 13, 2014.
Susan K. Fawcett,
Records Officer, USPTO, Office of the Chief Information Officer.

[FR Doc. 2014-14214 Filed 6-17-14; 8:45 am]

BILLING CODE 3510-16-P